DEPARTMENT OF HEALTH AND HUMAN SERVICES

Food and Drug Administration

[Docket No. FDA-2011-N-0400]

DEPARTMENT OF AGRICULTURE

Food Safety and Inspection Service

[Docket No. FSIS-2011-0014]

Approaches to Reducing Sodium Consumption; Establishment of Dockets; Request for Comments, Data, and Information; Correction

AGENCY: Food and Drug Administration, HHS; Food Safety and Inspection Service, USDA.

ACTION: Notice; establishment of dockets; request for comments, data, and information; correction.

SUMMARY: The Food and Drug Administration (FDA) and the Food Safety Inspection Service (FSIS) are correcting a notice that appeared in the Federal Register of September 15, 2011 (76 FR 57050). In that notice, FDA and FSIS established dockets to obtain comments, data, and evidence relevant to the dietary intake of sodium, as well as current and emerging approaches designed to promote sodium reduction. The document published with two typographical errors in the References section. This document corrects those errors.

FOR FURTHER INFORMATION CONTACT: FDA: Richard E. Bonnette, Center for Food Safety and Applied Nutrition (HFS-255), Food and Drug Administration, 5100 Paint Branch Pkwy., College Park, MD 20740-3835, (240) 402-1235.

FSIS: Rosalyn Murphy-Jenkins, Director, Labeling and Program Delivery Division, Office of Policy and Program Development, Food Safety and Inspection Service, U.S. Department of Agriculture, USDA, FSIS, OPPD, LPDD Stop Code 3784, Patriots Plaza III, 8-161A, 1400 Independence Ave. SW., Washington, DC 20250-3700.

SUPPLEMENTARY INFORMATION: In FR Doc. 2011-23753, appearing on page 57050, in the Federal Register of Thursday, September 15, 2011, FDA and FSIS are making the following corrections:

1. On page 57053, in the third column, in the References section, the second reference is corrected to read: “2. Xu, J, Kochanek, KD, Murphy, SL, Tejada-Vera, B. “Deaths: preliminary data for 2007,” CDC, National Vital Statistics Report. 2010; 58 (19).”

2. On page 57054, in the first column, in the References section, the twenty-fifth reference is corrected to read: “25. NHLBI (2003). “The seventh report of the Joint National Committee on prevention, detection, evaluation, and the treatment of high blood pressure,” NIH Publication No. 04-5230. Bethesda, MD: National Heart, Lung, and Blood Institute.”

Dated: October 19, 2011.
Leslie Kux,
Acting Assistant Commissioner for Policy, Food and Drug Administration.
Dated: October 19, 2011.
Alfred V. Almanza,
Administrator, Food Safety and Inspection Service.

[FR Doc. 2011-28029 Filed 10-28-11; 8:45 am]

BILLING CODE 4160-01-P